DEPARTMENT OF THE INTERIOR

Bureau of Indian Affairs

25 CFR Part 292

RIN 1076-AE81

Gaming on Trust Lands Acquired After October 17, 1988

AGENCY: Bureau of Indian Affairs, Interior.

ACTION: Proposed rule; reopening of comment period.

SUMMARY: This document reopens the comment period for the proposed rule published on December 4, 2006 (71 FR 70335), which establishes procedures that an Indian tribe must follow in seeking to conduct gaming on lands acquired after October 17, 1988.

DATES: Comments must be received on or before February 1, 2007.

ADDRESSES: You may submit comments identified by the number 1076-AE81, by any of the following methods:

• Federal rulemaking portal: http://www.regulations.gov. Follow the instructions for submitting comments.

• Fax: 202-273-3153.

• Mail: Mr. George Skibine, Director, Office of Indian Gaming, Office of the Deputy Assistant Secretary—Policy and Economic Development, 1849 C Street, NW., Mail Stop 3657-MIB, Washington, DC 20240.

• Hand Delivery: Office of Indian Gaming, Office of the Deputy Assistant Secretary—Policy and Economic Development, 1849 C Street, NW., Mail Stop 3657-MIB, Washington, DC, from 9 a.m. to 4 p.m., Monday through Friday.

FOR FURTHER INFORMATION CONTACT: George Skibine, Office of Indian Gaming, Acting Deputy Assistant Secretary—Policy and Economic Development, Mail Stop 3657-MIB, 1849 C Street, NW., Washington, DC 20240; Telephone (202) 219-4066.

SUPPLEMENTARY INFORMATION: On October 5, 2006 (71 FR 58769), the Bureau of Indian Affairs (BIA) published a proposed rule to establish procedures that an Indian tribe must follow in seeking to conduct gaming on lands acquired after October 17, 1988. The Indian Gaming Regulatory Act allows Indian tribes to conduct class II and class III gaming activities on land acquired after October 17, 1988, only if the land meets certain exceptions. This proposed rule establishes a process for submitting and considering applications from Indian tribes seeking to conduct class II or class III gaming activities on lands acquired in trust after October 17, 1988.

On December 4, 2006, the BIA published a notice making corrections to the proposed rule and extended the comment period until December 19, 2006. Eighteen comments were received after December 19, 2006. Several of these comments raise substantive issues that may result in modification of the proposed rule. The comment period is reopened to allow consideration of the comments received after December 19, 2006, and to allow additional time for comment on the proposed rule. Comments must be received on or before February 1, 2007.

Dated: January 11, 2007.
Michael D. Olsen,
Principal Deputy Assistant Secretary—Indian Affairs.

1

[FR Doc. E7-511 Filed 1-16-07; 8:45 am]

BILLING CODE 4310-4N-P